DEPARTMENT OF TRANSPORTATION

National Highway Traffic Safety Administration

[Docket No. NHTSA-2022-0026]

Insurance Cost Information Regulation

AGENCY: National Highway Traffic Safety Administration (NHTSA), Department of Transportation (DOT).

ACTION: Notice of availability.

SUMMARY: This notice announces publication by NHTSA of calendar year 2022 text and data for the Insurance Cost Information Booklet. This information is intended to assist prospective purchasers in comparing differences in passenger vehicle collision loss experience that could affect auto insurance costs.

ADDRESSES: Interested persons may obtain a copy of this booklet or read background documents by going to http://regulations.dot.gov at any time or to Room W12-140 on the ground level of the West Building, 1200 New Jersey Avenue SE, Washington, DC, between 9 a.m. and 5 p.m., Monday through Friday, except Federal holidays.

FOR FURTHER INFORMATION CONTACT: Ms. Carlita Ballard, Office of International Policy, Fuel Economy and Consumer Programs, NHTSA, W43-439, West Building, 1200 New Jersey Avenue SE, Washington, DC 20590. Ms. Ballard's telephone number is (202) 366-5222. Her fax number is (202) 493-2990.

SUPPLEMENTARY INFORMATION: Pursuant to NHTSA's regulation in title 49 of the Code of Federal Regulations, part 582, Insurance Cost Information Regulation, NHTSA is required to make available to prospective purchasers information regarding comparative insurance costs, based on damage susceptibility and crashworthiness, for makes and models of passenger cars, station wagons/passenger vans, pickups, and utility vehicles.

Under the law, NHTSA produces a new version of this booklet with updated information provided by the Highway Loss Data Institute's (HLDI) April 2021 and 2022 Insurance Collision Reports. The HLDI is a nonprofit research organization that publishes insurance loss statistics on automobiles and other passenger motor vehicle models driven on United States and Canadian highways. This notice announces NHTSA's publication of calendar year 2022 text and data for the Insurance Cost Information Booklet.

Consumers may obtain a copy of the online booklet through the NHTSA web page at: http://www.nhtsa.dot.gov/ theft. From NHTSA's Vehicle Theft Prevention website, on that page, under the “Resources Panel”, click on “2022 Comparison of Insurance Costs”.

Issued in Washington, DC under authority delegated in 49 CFR 1.95, 501.5 and 501.8.
Milton E. Cooper,
Director, Rulemaking Operations.

[FR Doc. 2022-18659 Filed 8-29-22; 8:45 am]

BILLING CODE 4910-59-P